DEPARTMENT OF COMMERCE

National Oceanic and Atmospheric Administration

50 CFR Part 660

[I.D. 112905C]

RIN 0648-AT98

Fisheries off West Coast States and in the Western Pacific; Pacific Coast Groundfish Fishery; Notice of Availability of Amendment 19 to the Pacific Coast Goundfish Fishery Management Plan

AGENCY: National Marine Fisheries Service (NMFS), National Oceanic and Atmospheric Administration (NOAA), Commerce.

ACTION: Notice of availability of an amendment to a fishery management plan; request for comments.

SUMMARY: Amendment 19 to the Pacific Coast Groundfish Fishery Management Plan (FMP) has been developed by NMFS and the Pacific Fishery Management Council (Council) to comply with the Magnuson-Stevens Fishery Conservation and Management Act (Magnuson-Stevens Act) by amending the Pacific Coast Groundfish Fishery Management Plan (FMP) to describe and identify essential fish habitat (EFH) for the fishery, designate Habitat Areas of Particular Concern, minimize to the extent practicable the adverse effects of fishing on EFH, and identify other actions to encourage the conservation and enhancement of EFH.

DATES: Comments on Amendment 19 must be received on or before February 6, 2006.

ADDRESSES: You may submit comments on the amendment identified by I.D. 112905C by any of the following methods:

• E-mail: GroundfishEFH-FMP.nwr@noaa.gov. Include I.D. 112905C in the subject line of the message.

• Federal e-Rulemaking portal: http://www.regulations.gov. Follow the instructions for submitting comments.

• Mail: Send comments to D. Robert Lohn, Administrator, Northwest Region, National Marine Fisheries Service, Sand Point Way NE., BIN C15700, Seattle, WA 98115-0070.

• Fax: (206) 526-6736.

Copies of Amendment 19 or supporting documents are available from Maryann Nickerson, (206) 526-4490.

FOR FURTHER INFORMATION CONTACT: Stephen Copps (Northwest Region, NMFS), phone: 206-526-6187.

SUPPLEMENTARY INFORMATION: The Magnuson-Stevens Act requires each Regional Fishery Management Council to submit any amendment to an FMP to NMFS for review and approval, disapproval, or partial approval. The Magnuson-Stevens Act also requires that NMFS, upon receiving an amendment to an FMP, immediately publish notification in the Federal Register that the amendment is available for public review and comment. NMFS will consider the public comments received during the comment period described above in determining whether to approve, disapprove, or partially approve Amendment 19.

Section 303(a)(7) of the Magnuson-Stevens Act requires Fishery Management Councils to include in FMPs the description and identification of EFH for the fishery, and minimization to the extent practicable the adverse effects of fishing on EFH. Amendment 19 is supported by a final environmental impact statement (FEIS) that evaluates a comprehensive strategy to conserve and enhance EFH, including its identification and the implementation of measures to minimize adverse impacts to EFH from fishing, to the extent practicable.

Preparation of the EIS and Amendment 19 stem from a 2000 court order in American Oceans Campaign et. al. v. Daley, Civil Action 99-982 (GK) (D.D.C. September 14, 2000), which required NMFS and the Council to prepare an EIS to evaluate the effects of fishing on EFH and identify measures to minimize those impacts to the extent practicable. NMFS published a draft EIS for public comment on February 11, 2005. The public comment period on the draft ended on May 11, 2005. The Council identified a final preferred alternative at their June 13-17, 2005, meeting in Foster City, CA. NMFS must approve any FMP amendment and implementing regulations it deems necessary by May 6, 2006.

Specific Request for Additional Comments and Information

A coastwide prohibition on bottom trawling in all areas within the exclusive economic zone (EEZ) that are deeper than 700 fm is also included in the proposed amendment. NMFS is specifically seeking comment on this aspect of the amendment as well as the gear restrictions described above because they would apply in areas deeper than 3500 m (11482.9 ft), and, therefore, would be outside EFH. Management measures to minimize adverse impacts on EFH could apply in the EEZ in areas not described as EFH, if there is a link between the fishing activity and adverse effects on EFH. Additionally, management measures could be based on the Council's discretionary authority under sections (303(b)(2) and (b)(12) of the Magnuson-Stevens Act to protect habitat outside EFH if there is a basis for these measures. NMFS will consider public comments and information received on the proposed rule which has been submitted for Secretarial review and approval and on the proposed Amendment 19 to determine if the measures should be applied in areas outside EFH (deeper than 3500 m (11482.9 ft). NMFS expects to publish the proposed regulation to implement Amendment 19 in the near future.

Public comments on Amendment 19 must be received by February 6, 2006, to be considered by NMFS in the decision to approve, disapprove, or partially approve Amendment 19.

Authority: 16 U.S.C. 1801 et seq.

Dated: December 1, 2005.
Alan D. Risenhoover,
Acting Director, Office of Sustainable Fisheries, National Marine Fisheries Service.

[FR Doc. 05-23735 Filed 12-6-05; 8:45 am]

BILLING CODE 3510-22-S